DEPARTMENT OF HOMELAND SECURITY

Coast Guard

[USCG-2010-1116]

Houston/Galveston Navigation Safety Advisory Committee

AGENCY: Coast Guard, DHS.

ACTION: Notice of Federal Advisory Committee Meeting.

SUMMARY: The Houston/Galveston Navigation Safety Advisory Committee postponed its originally scheduled February 3, 2011, meeting due to inclement weather. The new meeting date is June 21, 2011, in Texas City, Texas, to discuss waterway improvements, aids to navigation, area projects impacting safety on the Houston Ship Channel, and various other navigation safety matters in the Galveston Bay area. The meeting will be open to the public.

DATES: The Committee will meet on Tuesday, June 21, 2011, from 9 a.m. to noon. Please note that meeting may close early if the Committee has completed its business. Comments on the issues to be considered by the committee should reach the online docket or Docket Management Facility by June 7, 2011.

ADDRESSES: The meeting will be held at Coast Guard Marine Safety Unit Building in Texas City, 3101 FM 2004, Texas City, Texas 77591. For information on facilities or services for individuals with disabilities or to request special assistance at the meeting, contact the person listed in the FOR FURTHER INFORMATION CONTACT section below.

You may submit comments identified by docket number USCG-2010-1116 using any one of the following methods:

(1) Federal eRulemaking Portal: http://www.regulations.gov. Follow the instructions for submitting comments.

(2) Fax: 202-493-2251.

(3) Mail: Docket Management Facility (M-30), U.S. Department of Transportation, West Building Ground Floor, Room W12-140, 1200 New Jersey Avenue, SE., Washington, DC 20590-0001.

(4) Hand delivery: Same as mail address above, between 9 a.m. and 5 p.m., Monday through Friday, except Federal holidays. The telephone number is 202-366-9329. To avoid duplication, please use only one of these four methods. See the “Public Participation” portion of the SUPPLEMENTARY INFORMATION section below for instructions on submitting comments.

FOR FURTHER INFORMATION CONTACT: If you have any questions concerning the meeting, contact Lieutenant Junior Grade Margaret Brown, Waterways Management Branch, Coast Guard, telephone (713) 678-9001, e-mail Margaret.A.Brown@uscg.mil. If you have questions on viewing or submitting material to the docket, call Renee V. Wright, Program Manager, Docket Operations, telephone 202-366-9826.

SUPPLEMENTARY INFORMATION: Notice of this meeting is given under the Federal Advisory Committee Act (FACA), 5 U.S.C. App. (Pub. L. 93-463). The HOGANSAC is an advisory committee as provided for in section 18 of the Coast Guard Authorization Act of 1991, (Pub. L. 102-241 as amended) and chartered under the provisions of the FACA. HOGANSAC provides advice and recommendations to the Commandant of the U.S. Coast Guard on matters relating to safe transit of vessels and products through Galveston Bay, and to and from the Ports of Galveston, Houston, Texas City, and Galveston Bay.

Public Participation: To facilitate public participation, we are inviting public comment on the issues to be considered by the committee as listed in the “Agenda” portion below. All submissions received must include the words “Department of Homeland Security” and the docket number for this action. Comments received will be posted without alteration at http://www.regulations.gov, including any personal information provided. You may review a Privacy Act notice regarding our public dockets in the January 17, 2008, issue of the Federal Register (73 FR 3316).

Docket: For access to the docket to read background documents or comments received by the committee, go to http://www.regulations.gov and enter the docket number in the search box.

Public Comment Period: A public comment period will be held during the meeting on June 21 from 11 to 11:30 a.m. Speakers are requested to limit their comments to three minutes. Please note that the public comment period may end before the time indicated, following the last call for comments. Contact the individual listed in the FOR FURTHER INFORMATION CONTACT section to register as a speaker.

Agenda

The tentative agenda for the Committee is as follows:

(1) Opening Remarks by the Designated Federal Officer (CAPT Woodring) and Committee Chair (Mrs. Tava Foret).

(2) Approval of September 23, 2010, minutes.

The HOGANSAC minutes will be available at the following link as soon as they are approved by the committee: http://homeport.uscg.mil/mycg/portal/ep/channelView.do?channelId=-18426&channelPage=%2Fep%2Fchannel%2Fdefault.jsp&pageTypeId=13489&BV_SessionID=@@@@1196828626.1302537172@@@@&BV_EngineID=ccccadfdfemhkfhcfjgcfgfdffhdghk.0.

(3) Old Business.

(a) Waterways Safety and Utilization subcommittee report. Copies of the report will be available to the public on June 8, 2011 at the Homeport Web site: http://homeport.uscg.mil/mycg/portal/ep/programView.do?channelId18426&programId=13300&programPage=%2Fep%2Fprogram%2Feditorial.jsp&pageTypeId=13489&BV_SessionID=@@@@0584297917.1302013571@@@@&BV_EngineID=cccfadfdemifmekcfjgcfgfdffhdghm.0. The subcommittee is reviewing safety issues at Bolivar Ferry Landings and is requesting any real time videos and examples of unsafe wake in the area that users may have. The subcommittee continues to revise the safe boating publications including the Navigating the Houston Ship Channel brochure, a guide for commercial users of the waterway; and the Sharing Our Bay Brochure, a guide for recreational users of the waterway. The subcommittee is conducting a study of Galveston Anchorage Area and is requesting that National Oceanic and Atmospheric Administration (NOAA) update Galveston-area nautical charts with new survey information. The subcommittee is also requesting that NOAA utilize bottom contour information for Anchorage A on applicable charts and that hydrography information is added to applicable charts for Anchorage A, B, and C in Galveston Bay. The subcommittee recently advised the Coast Guard regarding the costs and benefits of the new U.S. Coast Guard Boarding Procedures and has since closed the issue;

(b) Area Maritime Security Committee (AMSC) Liaison's report: The AMSC representative will discuss the Annual Report from the Facility Security Working Group, highlighting their new Web site and the progress they have made on various issues such as TWIC escorting and Mariner Access/Shore Leave. The representative will also discuss lessons learned from the 2011 SECUREX, which took place on March 24, 2011. The SECUREX is an exercise that focused on long-term recovery of the ship channel and the marine transportation system following a security incident. The AMSC representative will summarize the amount, type, finances, and timeline associated with the Port Security Grants Round 11 proposed projects.

(3) New Business.

(a) Review of 2011 Area Maritime Security Committees/Harbor Safety Committees Conference in Houston, Texas;

(b) Brief presentation on Seafarer Access;

(5) Announcements.

(a) Schedule Next Meetings;

(b) Solicitation for public comments.

Dated: April 14, 2011.
M.E. Woodring,
Captain, U.S. Coast Guard, Commander, Sector Houston-Galveston.

[FR Doc. 2011-11486 Filed 5-10-11; 8:45 am]

BILLING CODE 9110-04-P